DEPARTMENT OF COMMERCE

National Oceanic and Atmospheric Administration

Publication of North American Datum of 1983 (2011) Epoch 2010.00, North American Datum of 1983 (PA2011) Epoch 2010.00 and North American Datum of 1983 (MA2011) Epoch 2010.00

AGENCY: National Geodetic Survey (NGS), National Ocean Service (NOS), National Oceanic and Atmospheric Administration (NOAA), Department of Commerce.

ACTION: Informational Notice

SUMMARY: The National Geodetic Survey (NGS) has finalized the publication of new realizations of three geodetic references frames that have all carried the name of “the North American Datum of 1983” (or “NAD 83”). The new realizations are NAD 83 (2011) epoch 2010.00 [for the North America and Caribbean tectonic plates], NAD 83 (MA11) epoch 2010.00 [for the Mariana tectonic plate] and NAD 83 (PA11) epoch 2010.00 [for the Pacific tectonic plate]. These three realizations supersede all previous NAD 83 realizations, including CORS96, NSRS2007, PACP00 and MARP00, for all epochs prior to 2010.00 (January 1, 2010).

This notice complements, but does not replace, the affirmation of NAD 83 as the official civilian horizontal datum for the United States surveying and mapping activities performed or financed by the Federal Government (Federal Register Notice, 54 FR 25318, June 14, 1989).

DATES: Individuals or organizations wishing to submit comments on the Publication of the North American Datum of 1983 (2011, MA11, PA11), epoch 2010.00, should do so by August 30, 2013.

ADDRESSES: Written comments should be sent to the attention of Neil D. Weston, Chief—Spatial Reference System Division, Office of the National Geodetic Survey, National Ocean Service, 1315 East West Highway, Silver Spring, Maryland 20910, fax 301-713-4324 or via email neil.d.weston@noaa.gov.

FOR FURTHER INFORMATION CONTACT: Requests for additional information should be directed to Neil D. Weston, Chief—Spatial Reference System Division, Office of the National Geodetic Survey, National Ocean Service, 1315 East West Highway, Silver Spring, Maryland 20910, Phone: (301) 713-3191.

SUPPLEMENTARY INFORMATION:

Abstract

The National Geodetic Survey (NGS), the federal agency responsible for defining, maintaining and providing access to the National Spatial Reference System (NSRS), has adopted a new realization for each of the three geodetic reference frames which carry the name “NAD 83”. The new NAD 83 realizations (2011, MA11, and PA11, all at epoch 2010.00) were derived from a simultaneous reprocessing of Global Navigation Satellite System (GNSS) data from the NGS-managed Continuously Operating Reference Station (CORS) network and a selected number of International GNSS Service (IGS) global tracking stations in August 2011. To ensure spatial consistency of the NSRS, coordinates for all current GNSS-derived control stations (passive marks) were optimally aligned with the CORS coordinates in a nationwide adjustment completed in June 2012.

Dated: July 22, 1013.
Juliana P. Blackwell,
Director, Office of National Geodetic Survey, National Ocean Service, National Oceanic and Atmospheric Administration.

[FR Doc. 2013-19167 Filed 8-7-13; 8:45 am]

BILLING CODE P